NUCLEAR REGULATORY COMMISSION

Yucca Mountain Review Plan, NUREG-1804, Revision 2,; Draft Report for Comment

AGENCY: Nuclear Regulatory Commission.

ACTION: Notice of availability and request for comments.

SUMMARY: The U.S. Nuclear Regulatory Commission (NRC) is announcing the availability of, and requesting comments on, “Yucca Mountain Review Plan, NUREG-1804, Revision 2, Draft Report for Comment.” The “Yucca Mountain Review Plan” provides guidance to the NRC staff for evaluating a potential license application for a geologic repository.

DATES: Comments should be submitted at the public meetings, or in writing by March 29, 2002. Comments received after this date will be considered, if it is practical to do so, but the Commission is able to assure consideration only for comments received on or before this date.

In addition to providing opportunity for written (and electronic) comments, public meetings on the “Yucca Mountain Review Plan” will be held during the public comment period. A notice announcing these meetings will be published in the Federal Register.

ADDRESSES: Submit written comments to: Michael T. Lesar, Chief, Rules and Directives Branch, Division of Administrative Services, Office of Administration, U.S. Nuclear Regulatory Commission, Mail Stop T-6D59, Washington, DC 20555-0001. Deliver comments to 11545 Rockville Pike, Rockville, Maryland, between 7:45 a.m. and 4:15 p.m., on Federal workdays.

Copies of any comments received and documents related to this action may be examined at the NRC Public Document Room, One White Flint North, Public File Area O1-F21, 11545 Rockville Pike, Rockville, Maryland. Documents are also available electronically at NRC's Public Electronic Reading Room on the Internet at http://www.nrc.gov/reading-rm.html. From this site, the public can gain entry into NRC's Agency-wide Documents Access and Management System, which provides text and image files of NRC's public documents. For more information, contact the NRC's Public Document Room Reference staff by telephone at (800) 397-4209, (301) 415-4737, or e-mail: pdr@nrc.gov.

The document is also available at NRC's website at: http://www.nrc.gov/reading-rm/doc-collections/nuregs/staff/sr1804/. You may also send comments electronically from this website by clicking on comment form. If a hard copy is preferred, a free single copy of the “Yucca Mountain Review Plan, NUREG-1804, Revision 2, Draft Report for Comment,” may be requested by writing to the U.S. Nuclear Regulatory Commission, ATTN: Reproduction and Distribution Services Branch, Washington, DC 20555-0001; sending an e-mail to Distribution@nrc.gov; or by sending a fax to (301) 415-2289. A copy of the “Yucca Mountain Review Plan, NUREG-1804, Revision 2, Draft Report for Comment,” is also available for inspection, and copying for a fee, in the NRC's Public Document Room, One White Flint North, Public File Area O1-F21, 11555 Rockville Pike, Rockville, Maryland.

FOR FURTHER INFORMATION, CONTACT: Jeffrey A. Ciocco, High-Level Waste Branch, Division of Waste Management, Office of Nuclear Material Safety and Safeguards, U.S. Nuclear Regulatory Commission, Mail Stop T-7F3, Washington, DC 20555-0001, telephone (301) 415-6391, e-mail: jac3@nrc.gov.

SUPPLEMENTARY INFORMATION: The licensing criteria are contained in the Commission's regulations (part 63), “Disposal of High-Level Radioactive Wastes in a Proposed Geologic Repository at Yucca Mountain, NV” (November 2, 2001; 66 FR 55732). The Secretary of Energy has recommended to President Bush the Yucca Mountain site for the development of a nuclear waste repository. President Bush has notified Congress that Yucca Mountain is qualified for a construction permit application. The law now gives Nevada the opportunity to disapprove the President's recommendation, and, if they do, then Congress will have an opportunity to act. The Department of Energy (DOE) would submit any license application to the NRC. NRC then must review and either approve or disapprove the license application.

The principal purpose of the “Yucca Mountain Review Plan” is to ensure the quality and uniformity of NRC staff review of a potential license application. The “Yucca Mountain Review Plan” has separate sections for reviews of repository safety before permanent closure, repository safety after permanent closure, the research and development program to resolve safety questions, the performance confirmation program, and administrative and programmatic requirements. Each of these sections would support NRC's review of DOE's compliance determination with specific regulatory requirements from part 63. The regulations and the Yucca Mountain Review Plan” are risk-informed and performance-based to the extent practical.

Dated at Rockville, Maryland, this 22nd day of March 2002.
For the Nuclear Regulatory Commission.
Janet R. Schlueter,
Chief, High-Level Waste Branch, Division of Waste Management, Office of Nuclear Material Safety and Safeguards.

[FR Doc. 02-7606 Filed 3-28-02; 8:45 am]

BILLING CODE 7590-01-P